EXPORT-IMPORT BANK OF THE UNITED STATES

Economic Impact Policy

This notice is to inform the public that the Export-Import Bank of the United States has received an application to finance the export of approximately $27 million in U.S. equipment, technology and services to a facility in Greece that will fabricate photovoltaic modules. The U.S. exports will enable the Greek facility to fabricate modules that will generate a total of approximately 5 megawatts of electricity per year. Initial production is expected to commence in 2005. Available information indicates that this new production will be consumed primarily in Europe. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 04-27931 Filed 12-21-04; 8:45 am]

BILLING CODE 6690-01-P